DEPARTMENT OF ENERGY

Federal Energy Regulatory Commission

[Docket No. RP02-153-007]

Horizon Pipeline Company, L.L.C.; Notice of Compliance Filing

April 6, 2005.

Take notice that on March 31, 2005, Horizon Pipeline Company, L.L.C. (Horizon) tendered for filing as part of its FERC Gas Tariff, Original Volume No. 1, Third Substitute Original Sheet No. 135C, to become effective May 1, 2005. Horizon is also filing to cancel Sheet No. 135D.

Horizon states that the filing is being made in compliance with the Commission's Order on Compliance Filing issued March 28, 2005 in Docket No. RP02-153-006.

Horizon states that copies of the filing are being sent to all parties set out on the Commission's official service list in Docket No. RP02-153-000.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-1688 Filed 4-11-05; 8:45 am]

BILLING CODE 6717-01-P